DEPARTMENT OF TRANSPORTATION

Federal Aviation Administration

RTCA Special Committee 200: Integrated Modular Avionics (IMA)/EUROCAE WG-60

AGENCY: Federal Aviation Administration (FAA), DOT.

ACTION: Notice of RTCA Special Committee 200 meeting.

SUMMARY: The FAA is issuing this notice to advise the public of a meeting of RTCA Special Committee 200: Integrated Modular Avionics.

DATES: The meeting will be held on November 16-19, 2004, from 9 a.m. to 5 p.m.

ADDRESSES: The meeting will be held at National Aerospace Laboratory NLR, Anthony Fokkerweg 2, 1059 BM, Amsterdam, The Netherlands.

FOR FURTHER INFORMATION CONTACT: (1) RTCA Secretariat, 1828 L Street, NW., Suite 805, Washington, DC, 20036-5133; telephone (202) 833-9339; fax (202) 833-9434; Web site http://www.rtca.org. (2) http://www.nlr.nl; René Eveleens; telephone +31 20 511 3600; eveleens@nlr.nl.

SUPPLEMENTARY INFORMATION: Pursuant to section 10(a)(2) of the Federal Advisory Committee Act (Pub. L. 92-463, 5 U.S.C. Appendix 2), notice is hereby given for a Special Committee 200 meeting. The agenda will include:

• November 16:

• Editorial Committee Meeting.

• Subgroup Meetings: Edit document.

• November 17:

• Opening Session (Welcome, Introductory and Administrative Remarks, Review Agenda, Review Summary of Previous Meeting).

• Review Action Items.

• Reports on Related Committees Activities.

• Subgroup Reports.

• Review Status of Document.

• Assignment of Action Items.

• Subgroup Meetings: Edit Document.

• November 18:

• Subgroups Meet in Working Sessions.

• Inter-Subgroup Meetings: Work Mutual Action Items.

• November 19:

• Subgroup Reports.

• Review Status of Document.

• Closing Session (Make Assignments, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, October 14, 2004.
Robert Zoldos,
FAA Systems Engineer, RTCA Advisory Committee.

[FR Doc. 04-24266 Filed 10-28-04; 8:45 am]

BILLING CODE 4910-13-M